FEDERAL COMMUNICATIONS COMMISSION

47 CFR Part 73

[DA 01-2000; MM Docket No. 00-166; RM-9951; RM-10015; RM-10016]

Radio Broadcasting Services; Wickenburg, Bagdad and Aguila, AZ

AGENCY: Federal Communications Commission.

ACTION: Final rule.

SUMMARY: This document grants a Petition for Reconsideration of the Report and Order in this proceeding, 66 FR 21680, May 1, 2001, as requested by Circle S Broadcasting Co., Inc., licensee of Station KSWG (FM), Channel 231C3, Wickenburg, Arizona, to the extent it substitutes Channel 242C3 for Channel 231C3 and modifies its license accordingly, rather than the allotment of Channel 242C3 at Wickenburg as that community's third local FM transmission service. The substitution and modification at Wickenburg is preferred over the allotment of Channel 242C3 for general application based upon the original proponent's withdrawal of interest, and the failure of any other party to express an interest therein. Coordinates used for Channel 242C3 at Wickenburg remain as specified in the Report and Order. Allotments made in the context of this proceeding at Bagdad and Aguila, Arizona, remain unchanged. Additionally, as Wickenburg is located within 320 kilometers (199 miles) of the US-Mexico border, concurrence of the Mexican government to this allotment was requested, but has not been received. Therefore, the allotment of Channel 242C3 at Wickenburg is conditioned on concurrence of the Mexican government in accordance with the 1992 USA-Mexico M Broadcast Agreement.

DATES: Effective October 9, 2001.

FOR FURTHER INFORMATION CONTACT: Nancy Joyner, Mass Media Bureau, (202) 418-2180.

SUPPLEMENTARY INFORMATION: This is a synopsis of the Commission's Memorandum Opinion and Order, MM Docket No. 00-166, adopted August 15, 2001, and released August 24, 2001. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Arizona, is amended by removing Channel 231C3 at Wickenburg.

Federal Communications Commission.
John A. Karousos,
Chief, Allocations Branch, Policy and Rules Division, Mass Media Bureau.

[FR Doc. 01-22203 Filed 9-4-01; 8:45 am]

BILLING CODE 6712-01-P